DEPARTMENT OF TRANSPORTATION

Federal Highway Administration

Final Federal Agency Actions on Proposed Highway in Washington, DC

AGENCIES: Federal Highway Administration (FHWA), DOT.

ACTION: Notice of Limitation on Claims for Judicial Review of Actions by FHWA and Other Federal Agencies.

SUMMARY: This notice announces actions taken by the FHWA that are final within the meaning of 23 U.S.C. 139(l)(1). The actions relate to a proposed highway project, 11th Street Bridges, Anacostia Freeway (I-295/DC 295) to Southeast/Southwest Freeway (I-695), and Washington, DC. Those actions grant approvals for the project.

DATES: By this notice, the FHWA is advising the public of final agency actions subject to 23 U.S.C. 139(l)(1). A claim seeking judicial review of the Federal agency actions that are covered by this notice will be barred unless the claim is filed on or before February 24, 2009. If the Federal law that authorizes judicial review of a claim provides a time period of less than 180 days for filing such claim, then that shorter time period still applies.

FOR FURTHER INFORMATION CONTACT: Mr. Mark R. Kehrli, Division Administrator, Federal Highway Administration, 1990 K Street, NW., Suite 510, Washington, DC 20006-1103; telephone: (202) 219-3536; e-mail: Mark.Kehrli@fhwa.dot.gov. The FHWA District of Columbia Division Office normal business hours are 8 a.m. to 4:30 p.m. (Eastern Time). You may also contact Mr. Barton Clark, Program Manager, Anacostia Waterfront Initiative, District Department of Transportation, 64 New York Avenue, NE., Washington, DC 20002; telephone: (202) 671-4696; e-mail: Barton.Clark@dc.gov. The District Department of Transportation normal business hours are 8:15 a.m. to 4:45 p.m.

SUPPLEMENTARY INFORMATION: Notice is hereby given that FHWA has taken final action by issuing a Record of Decision for the following highway project in the District of Columbia: The project, approximately one mile in length, will reconstruct and reconfigure the Interchange connecting the Southeast/Southwest Freeway and the Anacostia Freeway over the Anacostia River. New ramps east of the Anacostia River would link the Anacostia Freeway to the east ends of the 11th Street Bridges providing a link to the Freeway that had previously been missing. A bridge dedicated to local traffic would be separated from the bridge carrying Freeway traffic. The freeway bridge would carry eight lanes of traffic while the local bridge would carry four lanes with the potential that two of those lanes be designed for future streetcar use. The project will maintain the existing alignment. The Federal-aid project number is: IM-295-2 (181). The Notice of Intent (NOI) was issued in September 2005; the Draft Environmental Impact Statement (DEIS) was issued in July 2006; the Final Environmental Impact Statement (FEIS) was issued in November 2007; and the Record of Decision (ROD) was issued in July 2008. Information about the project also is available from the FHWA and the District Department of Transportation at the addresses provided above. The DEIS, FEIS, ROD and other documents can be viewed and downloaded from the project Web site at: http://www.11thstreetbridgeseis.com/reports.asp?DocGroupID=10033.

This notice applies to other Federal agency final actions taken after the issuance date of the FHWA Federal Register notice described above. The laws under which actions were taken include, but are not limited to:

1. General: National Environmental Policy Act (NEPA) [42 U.S.C. 4321-4351]; Federal-Aid Highway Act [23 U.S.C. 109].

2. Council on Environmental Quality (CEQ) regulations (40 CFR parts 1500-1508), FHWA Code of Federal Regulations (23 CFR 771.101-771.137, et seq.)

3. Air: Clean Air Act, 42 U.S.C. 7401-7671(q).

4. Land: Section 4(f) of the Department of Transportation Act of 1966 [49 U.S.C. 303].

5. Wildlife: Endangered Species Act [16 U.S.C. 1531-1544 and Section 1536], Marine Mammal Protection Act [16 U.S.C. 1361], Anadromous Fish Conservation Act [16 U.S.C. 757(a)-757(g)], Fish and Wildlife Coordination Act [16 U.S.C. 661-667(d)], Migratory Bird Treaty Act [16 U.S.C. 703-712].

6. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

7. Social and Economic: Civil Rights Act of 1964 [42 U.S.C. 2000(d)-2000(d)(1)].

8. Wetlands and Water Resources: Safe Drinking Water Act (SDWA), 42 U.S.C. 300(f)-300(j); TEA-21 Wetlands Mitigation, 23 U.S.C. 103(b)(6)(m); Land and Water Conservation Fund (LWCF), 16 U.S.C. 4601-4604.

9. Hazardous Materials: Comprehensive Environmental Response, Compensation, and Liability Act (CERCLA), 42 U.S.C. 9601-9675.

10. Executive Orders: E.O. 11990, Protection of Wetlands; E.O. 11988, Floodplain Management; E.O. 12898, Federal Actions to Address Environmental Justice in Minority Populations and Low Income Populations; E.O. 11593, Protection and Enhancement of Cultural Resources; E.O. 11514, Protection and Enhancement of Environmental Quality.

(Catalog of Federal Domestic Assistance Program Number 20.205, Highway Planning and Construction. The regulations implementing Executive Order 12372 regarding intergovernmental consultation on Federal programs and activities apply to this program.)

Authority: 23 U.S.C. 139(l)(1).

Issued on: August 25, 2008.
Mark R. Kehrli,
Division Administrator, District of Columbia.

[FR Doc. E8-19986 Filed 8-27-08; 8:45 am]

BILLING CODE 4910-RY-P